SECURITIES AND EXCHANGE COMMISSION

[Release No. 35-27187]

Filings Under the Public Utility Holding Company Act of 1935, as Amended (“Act”)

June 14, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by July 5, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After July 5, 2000, the application(s) and/or declaration(s), as filed or as amended, may be granted and/or permitted to become effective.

Entergy Corporation et al. (70-9667)

Entergy Corporation (“Entergy”), a registered holding company, located at 639 Loyola Avenue, New Orleans, Louisiana 70113, and four of its wholly owned public utility subsidiaries (“Entergy Operating Companies”), Entergy Arkansas, Inc., located at 425 West Capitol Avenue, 40th Floor, Little Rock Arkansas 72201, Entergy Gulf States, Inc., located at 350 Pine Street, Beaumont, Texas 77701, Entergy Louisiana, Inc., located at 639 Loyola Avenue, New Orleans, Louisiana 70113, and Entergy Mississippi, Inc., located at 308 East Pearl Street, Jackson, Mississippi 39201, have filed a declaration under section 12(d) of the Act and rules 44(b) and 54 under the Act.

Entergy and the Entergy Operating Companies request authorization through December 31, 2004, to transfer, without further Commission approval, up to $40,000,000 per year of utility assets in the aggregate, or no more than $12,000,000 per individual Entergy Operating Company per year. The assets that Entergy and the Entergy Operating Companies wish to transfer include substations and transmission and distribution lines or other utility assets presently dedicated to serving customers. The application states that the consideration for any transfers will be no less than the net book value of the assets being sold. In the case of a lease of utility assets, the lease payments will be valued using a discount factor equal to the selling company's allowed rate of return at the time of entering into the lease and counted against the exemption amount in the initial year of the lease.

For the Commission by the Division of Investment Management, under delegated authority.
Margaret H. McFarland,
Deputy Secretary.

[FR Doc. 00-15621 Filed 6-20-00; 8:45 am]

BILLING CODE 8010-01-M